DEPARTMENT OF COMMERCE

Foreign-Trade Zones Board

[B-52-2015]

Foreign-Trade Zone (FTZ) 37—Orange County, New York; Authorization of Production Activity; Takasago International Corporation (U.S.A.) (Fragrance Compounds), Harriman, New York

On August 7, 2015, Takasago International Corporation (U.S.A.) submitted a notification of proposed production activity to the Foreign-Trade Zones (FTZ) Board for its facility within Site 10 of FTZ 37 in Harriman, New York.

The notification was processed in accordance with the regulations of the FTZ Board (15 CFR part 400), including notice in the Federal Register inviting public comment (80 FR 49201, August 17, 2015). The FTZ Board has determined that no further review of the activity is warranted at this time. The production activity described in the notification is authorized, subject to the FTZ Act and the Board's regulations, including Section 400.14.

Dated: December 4, 2015.
Andrew McGilvray,
Executive Secretary.

[FR Doc. 2015-31072 Filed 12-9-15; 8:45 am]

BILLING CODE 3510-DS-P